DEPARTMENT OF ENERGY

Federal Energy Regulatory Commission

[Project No. 12665-004]

New York Tidal Energy Company; Notice of Preliminary Permit Application Accepted for Filing and Soliciting Comments, Motions To Intervene, and Competing Applications

July 30, 2010.

On May 12, 2010, New York Tidal Energy Company filed an application for a preliminary permit, pursuant to section 4(f) of the Federal Power Act, proposing to study the feasibility of the East River Tidal Energy Pilot Project, located on the East River, in New York City, New York. The sole purpose of a preliminary permit, if issued, is to grant the permit holder priority to file a license application during the permit term. A preliminary permit does not authorize the permit holder to perform any land-disturbing activities or otherwise enter upon lands or waters owned by others without the owners' express permission.

The proposed project would consist of the following: (1) A 2-meter-diameter 20 kW capacity hydrokinetic device during Phase 1, which would be replaced by a 6-meter-diameter 200 kW device in Phase 2; (2) a 1,300-foot transmission cable that would interconnect with the existing Wards Island Park System; and (3) appurtenant facilities for operating and maintaining the project. Based on the proposed 250 hours of testing operation per-year, the project is estimated to have an annual generation of 5 megawatt-hours per-year, which would be sold to a local utility.

Applicant Contact: Daniel Power, Oceana Energy Company, 1785 Massachusetts Avenue, NW., Suite 100, Washington, DC 20036; phone: (202) 465-6405.

FERC Contact: Timothy Konnert, 202-502-6359.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “eComment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-12665) in the docket number field to access the document. For assistance, contact FERC Online Support.

Nathaniel J. Davis, Sr.,
Deputy Secretary.

[FR Doc. 2010-19380 Filed 8-5-10; 8:45 am]

BILLING CODE 6717-01-P